DEPARTMENT OF LABOR

Employment and Training Administration

[TA-W-64,867]

Sherrill Furniture, Hickory White Furniture Division Hickory, NC; Including Workers of Hickory White Upholstery High Point, NC in Support of Sherrill Furniture Hickory White Furniture Division Hickory, NC; Amended Certification Regarding Eligibility To Apply for Worker Adjustment Assistance

In accordance with section 223 of the Trade Act of 1974, as amended (“Act”), 19 U.S.C. 2273, the Department of Labor issued a Certification of Eligibility to Apply for Worker Adjustment Assistance on January 30, 2009, applicable to workers of Sherrill Furniture, Hickory White Furniture Division, Hickory, North Carolina. The notice was published in the Federal Register on February 10, 2009 (74 FR 6653).

At the request of the petitioners, the Department reviewed the certification for workers of the subject firm. The workers are engaged in the production of bedroom and dining room furniture.

Information shows that Sherrill Furniture is the parent company of Hickory White Upholstery. Since Hickory White Upholstery operates in conjunction with Sherrill Furniture, production is vertically integrated and both are experiencing worker layoffs.

Based on these findings, the Department is amending this certification to including workers of Hickory White Upholstery, High Point, North Carolina in support of Sherrill Furniture, Hickory White Furniture Division, Hickory, North Carolina.

The intent of the Department's certification is to include all workers employed at Sherrill Furniture, Hickory White Furniture Division, Hickory, North Carolina who were adversely affected by increased company imports of bedroom and dining room furniture.

The amended notice applicable to TA-W-64,867 is hereby issued as follows:

All workers of Hickory White Furniture, division of Sherrill Furniture, Hickory, North Carolina, including workers of Hickory White Upholstery, High Point, North Carolina in support of Hickory White Furniture, division of Sherrill Furniture, Hickory, North Carolina, who became totally or partially separated from employment on or after January 12, 2008 through January 30, 2011, are eligible to apply for adjustment assistance under Section 223 of the Trade Act of 1974, and are also eligible to apply for alternative trade adjustment assistance under Section 246 of the Trade Act of 1974.

Signed at Washington, DC, this 17th day of June 2010.
Del Min Amy Chen,
Certifying Officer, Division of Trade Adjustment Assistance.

[FR Doc. 2010-16016 Filed 6-30-10; 8:45 am]

BILLING CODE 4510-FN-P